DEPARTMENT OF DEFENSE

Office of the Secretary

Federal Advisory Committee; Meeting of the Uniform Formulary Beneficiary Advisory Panel

AGENCY: Assistant Secretary of Defense (Health Affairs), DoD.

ACTION: Notice of meeting.

SUMMARY: Under the provisions of the Federal Advisory Committee Act of 1972 (title 5, United States Code (U.S.C.), Appendix, as amended) and the Government in the Sunshine Act of 1976 (5 U.S.C. 552b, as amended) the Department of Defense announces that the Uniform Formulary Beneficiary Advisory Panel (hereafter referred to as the Panel) will meet on June 24, 2010, in Washington, DC. The meeting is open to the public from 9 a.m. to 12 p.m., but seating is limited. A closed Administrative Work Meeting will be held from 8 a.m. to 9 a.m.

DATES: The open meeting will be held on June 24, 2010, from 9 a.m.-12 p.m. Prior to the open meeting the Panel will conduct an Administrative Work Meeting from 8 a.m. to 9 a.m. that is closed to the public.

ADDRESSES: The meeting will be held at the Naval Heritage Center Theater, 701 Pennsylvania Avenue NW., Washington, DC 20004.

FOR FURTHER INFORMATION CONTACT: Lieutenant Colonel Stacia Spridgen, Designated Federal Officer, Uniform Formulary Beneficiary Advisory Panel, 2450 Stanley Road, Suite 208, Ft. Sam Houston, TX 78234-6102, Telephone: (210) 295-1271, Fax: (210) 295-2789, E-mail: Baprequests@tma.osd.mil.

SUPPLEMENTARY INFORMATION:

Purpose of Meeting

The Panel will review and comment on recommendations made to the Director, TRICARE Management Activity, by the Pharmacy and Therapeutics Committee regarding the Uniform Formulary.

Meeting Agenda

Sign-In; Welcome and Opening Remarks; Public Citizen Comments; Scheduled Therapeutic Class Reviews—Alpha Blockers for Benign Prostatic Hyperplasia, Antilipidemics I, Designated Newly Approved Drugs and Drugs recommended for non-formulary placement due to non-compliance with Fiscal Year 2008 National Defense Authorization Act, Section 703; Panel Discussions and Vote; and comments following each therapeutic class review.

Meeting Accessibility

Pursuant to 5 U.S.C. 552b, as amended, and 41 CFR 102-3.140 through 102-3.165, and the availability of space this meeting is open to the public. Seating is limited and will be provided only to the first 220 people signing in. All persons must sign in legibly.

Administrative Work Meeting

Prior to the public meeting the Panel will conduct an Administrative Work Meeting from 8 a.m. to 9 a.m. to discuss administrative matters of the Panel. The Administrative Work Meeting will be held at the Naval Heritage Center (see ADDRESSES). Pursuant to 41 CFR 102-3.160, the Administrative Work Meeting will be closed to the public.

Written Statements

Pursuant to 41 CFR 102-3.105(j) and 102-3.140, the public or interested organizations may submit written statements to the membership of the Panel at any time or in response to the stated agenda of a planned meeting. Written statements should be submitted to the Panel's Designated Federal Officer (see FOR FURTHER INFORMATION CONTACT). The Designated Federal Officer's contact information can be obtained from the General Services Administration's Federal Advisory Committee Act Database— https://www.fido.gov/facadatabase/public.asp.

Written statements that do not pertain to the scheduled meeting of the Panel may be submitted at any time. However, if individual comments pertain to a specific topic being discussed at a planned meeting, then these statements must be submitted no later than 5 business days prior to the meeting in question. The Designated Federal Officer will review all submitted written statements and provide copies to all the committee members.

Public Comments

In addition to written statements, the Panel will set aside 1 hour for individuals or interested groups to address the Panel. To ensure consideration of their comments, individuals and interested groups should submit written statements as outlined in this notice; but if they still want to address the Panel, then they will be afforded the opportunity to register to address the Panel. The Panel's Designated Federal Officer will have a “Sign-Up Roster” available at the Panel meeting, for registration on a first-come, first-serve basis. Those wishing to address the Panel will be given no more than 5 minutes to present their comments, and at the end of the 1-hour time period no further public comments will be accepted. Anyone who signs up to address the Panel, but is unable to do so due to the time limitation, may submit their comments in writing; however, they must understand that their written comments may not be reviewed prior to the Panel's deliberation. Accordingly, the Panel recommends that individuals and interested groups consider submitting written statements instead of addressing the Panel.

Dated: May 25, 2010.
Mitchell S. Bryman,
Alternate OSD Federal Register Liaison Officer, Department of Defense.

[FR Doc. 2010-12867 Filed 5-27-10; 8:45 am]

BILLING CODE 5001-06-P